DEPARTMENT OF TRANSPORTATION

Federal Transit Administration

Preparation of Environmental Impact Statement for the San Francisco Bay Area Rapid Transit District (BART) Warm Springs Extension Project in the City of Fremont, located in Alameda County, CA

AGENCY: Federal Transit Administration (FTA), Department of Transportation (DOT).

ACTION: Notice of Intent to prepare an Environmental Impact Statement (EIS).

SUMMARY: The Federal Transit Administration, as lead agency, and the San Francisco Bay Area Rapid Transit District (BART) intend to jointly prepare an Environmental Impact Statement on a proposal by BART to extend its existing 91-mile rail network an additional 5.4 miles from the existing Fremont BART Station to a new station in the Warm Springs district of Fremont. An optional station at Irvington is also being considered. The EIS will be prepared to satisfy the requirements of the National Environmental Policy Act of 1969 (NEPA). An Environmental Impact Report (EIR) and Supplemental Environmental Impact Report (SEIR) were previously prepared for this project by BART in accordance with the California Environmental Quality Act (CEQA). The proposed project was selected as the preferred alternative by the BART Board of Directors following completion and certification of the CEQA SEIR in June 2003. The CEQA EIR and SEIR are available for review as described in ADDRESSES below. FTA and BART seek public and interagency input on the scope of the NEPA EIS for the project, including the alternatives to be considered and the environmental impacts to be evaluated.

DATES: Scoping Comments Due Date: Written comments on the scope of the NEPA review, including the alternatives to be considered and the related impacts to be assessed, should be received no later than May 17, 2004. Written comments should be sent to the BART Project Manager at the address given below in ADDRESSES.

Scoping Meeting Dates: A public scoping meeting and open house will be held at 7 p.m. on April 28, 2004 at the Fremont Main Library, located at 2400 Stevenson Boulevard, in the City of Fremont. Oral and written comments may be given at the scoping meeting, and a stenographer will record oral comments. The formal scoping meeting will be preceded by an open house from 6:30 pm to 7 pm allowing the public to discuss the EIS scope and proposed project informally with BART staff. The meeting location is accessible to people with disabilities. Persons with special needs should call BART at (510) 476-3900 at least 72 hours prior to the scoping meeting.

ADDRESSES: Written comments should be sent to San Francisco Bay Area Rapid Transit District, Attention: Ms. Shari Adams, Warm Springs Group Manager, P.O. Box 12688, MS LKS-21, Oakland, CA 94604-2688. Phone: (510) 476-3900. Fax: (510) 287-4747. Email: rbatars@bart.gov. If you wish to be placed on the mailing list to receive further information as the EIS study develops, contact Ms. Adams at the address listed above. Please specify the mailing list for the WSX EIS (Warm Springs Extension Project Environmental Impact Statement). Copies of the EIR and SEIR can also be obtained by contacting Ms. Adams as indicated above.

FOR FURTHER INFORMATION CONTACT: Ms. Lorraine Lerman, Community Planner, FTA Region IX, 201 Mission Street, Suite 2210, San Francisco, CA 94105. Phone: (415) 744-2735. Fax: (415) 744-2726. Information about the project can also be obtained from the BART Web site, http://www.bart.gov/wsx.

SUPPLEMENTARY INFORMATION:

I. Scoping

The FTA and BART invite all interested individuals and organizations, and federal, state, and local agencies to comment on the scope of the EIS. During the scoping process, comments should focus on proposing alternatives that may be less costly or have less environmental impacts while achieving similar transportation objectives, and on identifying specific social, economic, or environmental issues to be evaluated. At this time, comments should not focus on a preference for a particular alternative. As part of the public participation process, the study website referenced above will be periodically updated to reflect the project's current status. Additional opportunities for public participation will be announced through mailings, notices, advertisements, and press releases.

The project was originally advanced by BART as a State-funded and locally funded project without FTA involvement. At that time, BART prepared the CEQA EIR and SEIR and the BART Board of Directors selected a preferred alternative. Recent changes in State transportation funding priorities have resulted in BART's seeking FTA funding for the project. FTA is, therefore, preparing an EIS, but plans to incorporate by reference the CEQA EIR and SEIR. FTA does not intend to consider in detail alternatives that were evaluated during the CEQA process and found not to satisfactorily meet the project's purpose and need. At the same time, FTA intends that this EIS not be merely a ratification of decisions already made. FTA therefore seeks comments during scoping, on the alternatives to be considered in the EIS, in light of the analyses and coordination activities performed by BART and publicized prior to FTA involvement. FTA must also comply with other environmental requirements, such as Section 4(f) of the Department of Transportation Act (49 U.S.C. 303) and Section 106 of the National Historic Preservation Act, that apply only to Federal actions.

II. Description of Study Area

The FTA, as lead agency, in cooperation with the BART District, will prepare an EIS on a proposal to extend BART's rail service from the existing Fremont Station to a new station in the Warm Springs district of Fremont. An optional station at Irvington is also being considered. The project would be located entirely within the City of Fremont. Located in the East Bay region of the San Francisco Bay Area, Fremont is the southernmost city in Alameda County. Fremont is bounded by the cities of Hayward and Union City on the north, San Francisco Bay to the west, the foothills and mountains of the Diablo Range to the east, and the City of Milpitas and Santa Clara County on the south.

The alignment of the proposed BART extension would generally parallel portions of the Union Pacific Railroad (UP) corridor, which lies between Interstate 680 to the east and Interstate 880 to the west. The project study area includes the location of the proposed rail alignment, stations, auxiliary facilities, and a maintenance facility.

III. Purpose and Need

Transportation has become a critical issue for people living and working in the southern Alameda County and northern Santa Clara County. The surge in population, including nearly a 20 percent population increase over the past decade in the City of Fremont, has increased traffic on regional roadways. Highway improvements have not kept up with the demand for more highway capacity. Congestion on Interstate 680 and Interstate 880, the two major regional roadways linking Santa Clara, Alameda, and Contra Costa Counties, has worsened considerably over the last decade, and escalating traffic volumes have reached levels considered unacceptable by the California Department of Transportation and other regional monitoring agencies.

The proposed 5.4-mile BART extension to the Warm Springs district of Fremont, would improve the regional transit network by enhancing the link between the southern Alameda County-northern Santa Clara County area and the rest of the East Bay, and San Francisco. By shortening travel times and improving reliability, the BART extension is expected to generate additional transit ridership and reduce overall traffic congestion. The Warm Springs Extension would help accommodate projected future growth in employment and population, reduce pressure to expand roads, and support the region's efforts to meet state and federal air quality standards.

IV. Alternatives

In light of prior CEQA studies by BART, FTA intends to evaluate the following two alternatives in detail in the EIS:

1. The No-Build Alternative, which consists of the planned highway and transit systems expected to be in place in the design years 2010 and 2025 if the project is not built. The future No-Build Alternative is based on the Metropolitan Transportation Commission's long-range transportation plan for the area and includes programmed improvements in bus service.

2. BART Warm Springs Extension, the locally preferred alternative selected by the BART Board of Directors at the conclusion of the SEIR process, consists of a 5.4-mile BART extension from the existing Fremont Station to a proposed station in the Warm Springs district of Fremont, with an optional station at Irvington. The proposed project alignment would generally parallel portions of the UP railroad corridor through Fremont, between Interstate 680 to the east and Interstate 880 to the west. This route reflects a revised alignment designed following the 1992 EIR. The revisions were made in order to reduce project impacts, and the revised project was the subject of the 2003 SEIR. Chief among the project revisions is the proposed subway under Fremont Central Park; an alignment segment previously planned as an aerial structure.

The initial segment of the alignment would begin on an embankment at the south end of the existing elevated Fremont BART Station. The alignment would pass over Walnut Avenue on an aerial structure and descend into a cut-and-cover subway north of Stevenson Boulevard. The alignment would continue southward in subway under Fremont Central Park and the eastern arm of Lake Elizabeth and surface to grade between the eastern and western alignments of the UP corridor. The BART alignment would pass over Paseo Padre Parkway, which would be a vehicular underpass, on a bridge structure. The alignment would then continue southward at grade, passing under Washington Boulevard, which would be a vehicular overpass. From Washington Boulevard, the proposed project alignment would continue south at grade along UP's former eastern alignment to a terminus station in the southeast quadrant of Warm Springs Road and Grimmer Boulevard.

The optional Irvington Station, if constructed, would be located on the south side of Washington Boulevard, east and west of Osgood Road. Auxiliary wayside facilities would be placed periodically along the proposed alignment and would include electrical substations, gap breaker stations, train control and communications facilities, and pumping and emergency access facilities. Two subway ventilation structures may be required in Fremont Central Park, if feasible and prudent avoidance options cannot be developed. A rail vehicle maintenance facility is proposed immediately south of the Warm Springs Station site between the UP eastern alignment and Warm Springs Court.

If additional reasonable alternatives are identified through the scoping process, they will be evaluated in the EIS.

V. Probable Effects

The EIS will evaluate and fully disclose the environmental consequences of building and operating the proposed BART extension in advance of any decision by FTA to commit financial or other resources toward the implementation of a particular alternative. The EIS will examine the transportation benefits and environmental impacts of the alternatives. In addition, it will discuss actions to reduce or eliminate such impacts. Information on preliminary engineering of the rail alignment, stations, auxiliary facilities, and a maintenance facility will be included in the EIS. In addition, a section on financial considerations will be provided that identifies capital and operating costs and funding sources.

Environmental issues to be analyzed in the EIS include: transportation and traffic impacts, including changes in intersection and roadway levels of service; the use of parkland, including Fremont Central Park; biological resources and sensitive species; land use, including consistency of proposed stations with local plans and policies; potential impacts to historic and cultural resources; noise and vibration impacts on homes and other sensitive receptors near the tracks. Cumulative and growth-inducing impacts will be examined. Impacts will be evaluated for both the temporary construction period and for the long-term operation of the alternatives. Measures to mitigate any adverse impacts will be identified.

To ensure that all significant issues related to this proposed action are identified and addressed, scoping comments and suggestions are invited from all interested parties. Comments should be directed to the BART Warm Springs Extension Group Manager as noted in the ADDRESSES section above.

VI. FTA Procedures

The EIS is being prepared in accordance with the National Environmental Policy Act of 1969 (NEPA), its implementing regulations by the Council on Environmental Quality (40 CFR parts 1500-1508), and with the FTA/Federal Highway Administration's “Environmental Impact and Related Procedures” (23 CFR part 771). In accordance with FTA policy, the NEPA process will also address the requirements of other applicable environmental laws, regulations, and executive orders, such as the National Historic Preservation Act of 1966, Section 4(f) of the U.S. Department of Transportation Act, and Executive Orders on Environmental Stewardship and Transportation Infrastructure Project Reviews, Environmental Justice, Floodplain Management, and Protection of Wetlands.

The SEIR that resulted in the BART Board of Directors' selection of the proposed project as its preferred alternative was issued in 2003. To streamline the NEPA process and to avoid duplication of effort, FTA and BART will consider and incorporate into the EIS the results of previous studies, including the EIR and SEIR.

Upon completion, the Draft EIS will be distributed for public and agency review and comment. A public hearing on the Draft EIS will be held within the study area. Based on the Draft EIS and the public and agency comments received, FTA and BART may further refine and analyze the alternatives in the Final EIS.

Issued on: March 30, 2004.
Leslie T. Rogers,
Regional Administrator.

[FR Doc. 04-7681 Filed 4-5-04; 8:45 am]

BILLING CODE 4910-57-P